DEPARTMENT OF ENERGY

Federal Energy Regulatory Commission

Annual Charges Billing Fiscal Year 2004; Notice of Correction

August 6, 2004.

On July 30, 2004, the Commission issued the annual charges billings for Fiscal Year 2004. This statement of annual charges is issued pursuant to 18 CFR part 382 and covers the period October 1, 2003, through September 30, 2004. The Annual Charge Adjustment (ACA) unit charge included in the Gas Program Cost Analysis in accordance with 18 CFR 154.402(a) is corrected to read:

“The annual charges unit charge to be applied to rates in 2004 recovery of 2003 debit/credit and 2004 current year annual charge is $0.0019 per Dth. In accordance with section § 154.402(a), changes to the ACA must be filed annually to reflect the annual charge unit rate authorized by the Commission each fiscal year. If you need to change your ACA surcharge, use $0.0019 per Dth in your company's tariff, as it has been adjusted to include last year's debit/credit factor.”

If further information is required, contact Fannie Kingsberry at 202-502-6108.

Magalie R. Salas,
Secretary.

[FR Doc. E4-1790 Filed 8-11-04; 8:45 am]

BILLING CODE 6717-01-P